DEPARTMENT OF ENERGY

Federal Energy Regulatory Commission

[Docket No. EC01-34-000, et al.]

Delmarva Power & Light Company, et al.; Electric Rate and Corporate Regulation Filings

January 9, 2001.

Take notice that the following filings have been made with the Commission:

1. Delmarva Power & Light Company and Conectiv Energy Supply, Inc.

[Docket No. EC01-34-000]

Take notice that on January 5, 2001, Delmarva Power & Light Company (Delmarva) and Conectiv Energy Supply, Inc. (CESI) (collectively Applicant) submitted Exhibit H to supplement their application under the provisions of Section 203 of the Federal Power Act involving the assignment of Delmarva's rights and obligations under certain wholesale power sales agreements (Agreements) to CESI. Exhibit H includes the executed assignment and assumption agreement between Delmarva and CESI.

The Applicants state that copies of this joint application have been served upon Delmarva's counterparties in the Agreements and the pertinent state regulatory commissions.

Comment date: January 19, 2001, in accordance with Standard Paragraph E at the end of this notice.

2. Calumet Energy Team, LLC

[Docket No. EG01-26-000]

Take notice that on December 15, 2000, Calumet Energy Team, LLC, c/o Wisvest Corporation, N16 W23217 Stone Ridge Drive, Suite 100, Waukesha, WI 53188, filed with the Federal Energy Regulatory Commission an amended application for determination of exempt wholesale generator status pursuant to section 32(a)(1) of the Public Utility Holding Company Act of 1935. The applicant is a limited liability company organized under the laws of the State of Delaware that is engaged directly and exclusively in developing, owning, and operating a gas-fired, nominally 300 MW simple-cycle peaking power plant in Chicago, Illinois. The applicant's power plant will be an eligible facility.

Comment date: January 23, 2001, in accordance with Standard Paragraph E at the end of this notice. The Commission will limit its consideration of comments to those that concern the adequacy or accuracy of the application.

3. City of Kechikan, Alaska

[Docket No. EL01-26-000]

Take notice that on January 2, 2001, the City of Ketchikan, Alaska, d/b/a Ketchikan Public Utilities (Petitioner or Ketchikan), submitted an Application for Limited Waiver of Regulations Implementing PURPA § 210, or in the Alternative, Request for Confirmation of Treatment of Avoided Cost, pursuant to Section 402 of the Commission's Regulations under Sections 201 and 210 of the Public Utility Regulatory Policies Act of 1978 (PURPA). Ketchikan is seeking a limited waiver of any obligation that it may have under PURPA to displace purchases from the Four Dam Pool Initial Project, with purchases from a project certified under PURPA as a qualifying facility. Alternatively, Ketchikan requests that the Commission confirm that a proper calculation of “avoided costs” under PURPA reflect the avoided costs of the Four Dam Pool Initial Project Joint Action Agency, and any waivers necessary to permit the requested confirmation of the avoided cost calculation.

Comment date: February 8, 2001, in accordance with Standard Paragraph E at the end of this notice.

4. ISO New England Inc.

[Docket No. EL00-62-016]

Take notice that on December 28, 2000, ISO New England Inc. submitted an Interim Report of Compliance in response to the Commission's June 28, 2000 Order in this proceeding.

Copies of said filing have been served upon all parties to this proceeding and upon the utility regulatory agencies of the six New England States.

Comment date: February 8, 2001, in accordance with Standard Paragraph E at the end of this notice.

5. ISO New England Inc.

[Docket Nos. EL00-62-017 and EL00-62-018]

Take notice that on January 2, 2001, ISO New England Inc. made a compliance filing as required in the Commission's December 15, 2000 Order in these proceedings. Copies of said filing have been served upon all parties to this proceeding, upon NEPOOL Participants, as well as upon the utility regulatory agencies of the six New England States.

Comment date: February 8, 2001, in accordance with Standard Paragraph E at the end of this notice.

6. Potomac Electric Power Company

[Docket No. ER00-3727-002]

Take notice that on December 22, 2000, Potomac Electric Power Company (Pepco), tendered for filing an executed Service Agreement No. 20 under Pepco's FERC Electric Tariff, First Revised Volume No. 5 with Southern Company Energy Marketing L.P. (SCEM). The unexecuted service agreement had been previously accepted for filing by the Commission in Potomac Electric Power Company, et al, 93 FERC ¶ 61,240 (2000).

The service agreement became effective on December 19, 2000.

Comment date: January 19, 2001, in accordance with Standard Paragraph E at the end of this notice.

7. Cinergy Services, Inc.

[Docket No. ER01-500-001]

Take notice that on December 27, 2000, Cinergy Services, Inc. (Cinergy), tendered for filing a Service Agreement under Cinergy's Resale, Assignment or Transfer of Transmission Rights and Ancillary Service Rights Tariff (Tariff) entered into between Cinergy and Wabash Valley Power Association, Inc.

Comment date: January 19, 2001, in accordance with Standard Paragraph E at the end of this notice.

8. Outback Power Marketing Inc.

[Docket No. ER01-297-001]

Take notice that on January 5, 2001, Outback Power Marketing Inc. (OPMI), tendered for filing with the Federal Energy Regulatory Commission a compliance filing pursuant to the Commission's order in OPMI Docket No ER01-297-000 (Letter Order issued December 12, 2000).

Outback Power Marketing Inc. stated that it served a copy of its filing upon each person designated on the official service list compiled by the Secretary in this proceeding.

Comment date: January 26, 2001, in accordance with Standard Paragraph E at the end of this notice.

9. Fulton Cogeneration Associates, L.P.

[Docket No. ER01-324-001]

Take notice that on January 4, 2001, Fulton Cogeneration Associates, L.P. (Fulton), tendered for filing First Revised Sheet No. 1, FERC Electric Tariff, Original Volume No. 1.

Comment date: January 25, 2001, in accordance with Standard Paragraph E at the end of this notice.

10. Mississippi Power Company

[Docket No. ER01-866-000]

Take notice that on January 2, 2001, Mississippi Power Company (Mississippi), tendered for filing a request for a waiver of certain requirements of the Fuel Adjustment Clause of its FERC Electric Tariff, First Revised Volume I (Tariff), to allow Mississippi Power to pass through the fuel adjustment clause its displaced energy cost instead of the cost of test energy from its new combined cycle units, Plant Daniel 3 & 4.

Copies of the filing were served on all customers taking service under the Tariff and on the Mississippi Public Service Commission and the Mississippi Public Utilities Staff.

Comment date: January 23, 2001, in accordance with Standard Paragraph E at the end of this notice.

11. Indeck Pepperell Power Associates

[Docket No. ER01-867-000]

Take notice that on January 2, 2001, Indeck Pepperell Power Associates, Inc. (Indeck Pepperell), tendered for filing with the Federal Energy Regulatory Commission a Power Purchase and Sale Transaction (Transaction) between Indeck Pepperell and Calpine Energy Services, L.P. (Calpine), dated January 28, 2000, for service under Rate Schedule FERC No. 1.

Indeck Pepperell requests that the Service Agreement be made effective as of January 1, 2001.

Comment date: January 23, 2001, in accordance with Standard Paragraph E at the end of this notice.

12. Western Resources, Inc.

[Docket No. ER01-868-000]

Take notice that on January 2, 2001, Western Resources, Inc.(WR), tendered for filing a Service Agreement between WR and East Kentucky Power Cooperative (EKPC). WR states that the purpose of this agreement is to permit EKPC to take service under WR's Market Based Power Sales Tariff on file with the Commission.

This agreement is proposed to be effective December 5, 2000.

Copies of the filing were served upon EKPC and the Kansas Corporation Commission.

Comment date: January 23, 2001, in accordance with Standard Paragraph E at the end of this notice.

13. Geothermal Properties, Inc.

[Docket No. ER01-869-000]

Take notice that on January 2, 2001, Geothermal Properties, Inc. (GPI), petitioned the Commission for acceptance of GPI Rate Schedule FERC No. 1; the granting of certain blanket approvals, including the authority to sell electricity at market-based rates; and the waiver of certain Commission Regulations.

GPI intends to engage in wholesale electric power and energy purchases and sales as a marketer through a wholly-owned, special purpose vehicle. GPI is not currently in the business of generating or transmitting electric power, however, GPI intends to continue the exploration and development of its geothermal leases within the Coso KGRA with a view towards developing 10 MW of capacity by December 2002 and a minimum of 40 MW of capacity by December 2004. GPI is an affiliate of the Grace Family (Grace), which has been involved in geothermal projects in The Geysers area of California having total capacity of 240 MW.

Comment date: January 23, 2001, in accordance with Standard Paragraph E at the end of this notice.

14. Alliant Energy Corporate Services, Inc.

[Docket No. ER01-870-000]

Take notice that on January 2, 2001, Alliant Energy Corporate Services, Inc. (Alliant Energy) on behalf of IES Utilities Inc. (IESU) and Wisconsin Power & Light (WPL), tendered for filing a Negotiated Capacity Transaction (Agreement) between IESU and WPL for the period January 1, 2001 through January 31, 2001. The Agreement was negotiated to provide service under the Alliant Energy System Coordination and Operating Agreement among IES Utilities Inc., Interstate Power Company, Wisconsin Power & Light Company and Alliant Energy.

Comment date: January 23, 2001, in accordance with Standard Paragraph E at the end of this notice.

15. Cabrillo Power I LLC and Cabrillo Power II LLC

[Docket No. ER01-887-000]

Take notice that on January 3, 2001, Cabrillo Power I LLC and Cabrillo Power II LLC, tendered for filing their Reliability Must Run (RMR) Agreements conformed to the terms of the Second Stipulation in Docket No. ER98-445, et al., and the Commission's Order No. 614.

This filing has been served on the California ISO, San Diego Gas & Electric Company, the California Electricity Oversight Board and the California Public Utilities Commission.

Pursuant to the terms of the Second Stipulation, these changes should be made effective as of June 1, 1999.

Comment date: January 24, 2001, in accordance with Standard Paragraph E at the end of this notice.

16. California Independent System Operator Corporation

[Docket No. ER01-871-000]

Take notice that on January 3, 2001, the California Independent System Operator Corporation (ISO), tendered for filing and acceptance a Utility Distribution Company Operating Agreement (UDC Operating Agreement) between the ISO and the City of Vernon, California (Vernon).

The ISO requested waiver of the Commission's 60-day prior notice requirement to allow the UDC Operating Agreement to be made effective as of January 1, 2001, the date on which Vernon has requested to become a Participating TO.

The ISO states that this filing has been served upon all parties in this proceeding.

Comment date: January 24, 2001, in accordance with Standard Paragraph E at the end of this notice.

17. Central Maine Power Company

[Docket No. ER01-872-000]

Take notice that on January 3, 2001, Central Maine Power Company (CMP), tendered for filing a service agreement for Long Term Firm Local Point-to-Point Transmission Service entered into with Regional Waste System, Inc. Service will be provided pursuant to CMP's Open Access Transmission Tariff, designated rate schedule CMP—FERC Electric Tariff, Original Volume No. 3, as supplemented.

Comment date: January 24, 2001, in accordance with Standard Paragraph E at the end of this notice.

18. Entergy Services, Inc.

[Docket No. ER01-873-000]

Take notice that on January 3, 2001, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and The Legacy Energy Group, LLC.

Comment date: January 24, 2001, in accordance with Standard Paragraph E at the end of this notice.

19. California Independent System Operator Corporation

[Docket No. ER01-889-000]

Take notice that on January 4, 2001, the California Independent System Operator Corporation (ISO), tendered for filing Amendment No. 36 to the ISO Tariff. The ISO states that Amendment No. 36 is intended to provide a temporary exemption from creditworthiness requirements for Schedule Coordinators that had an Approved Credit Rating on January 3, 2001, and are either Original Participating Transmission Owners or schedule on behalf of Original Participating Transmission Owners. The ISO will extend the temporary exemption on a day to day basis, but in no event beyond March 3, 2001.

The ISO states that this filing has been served on the California Public Utilities Commission, the California Electricity Oversight Board and all California ISO Scheduling Coordinators.

Comment date: January 25, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 01-1254 Filed 1-16-01; 8:45 am]

BILLING CODE 6717-01-P